OFFICE OF THE UNITED STATES TRADE REPRESENTATIVE

Publication of 2023 Aggregate Quantities Under the U.S.-Australia Free Trade Agreement

AGENCY: Office of the United States Trade Representative (USTR).

ACTION: Notice.

SUMMARY: In accordance with the United States-Australia Free Trade Agreement and the Harmonized Tariff Schedule of the United States (HTSUS), USTR is providing notice of aggregate quantities of certain tariff subheadings for calendar year (CY) 2023. Additionally, this notice makes technical modifications to aggregate quantities for CY2021 and CY2022.

DATES: The changes made by this notice are applicable as of January 3, 2023.

FOR FURTHER INFORMATION CONTACT: Sarah E. Fasano, Office of Agricultural Affairs, at (202) 395-9491 or Sarah.E.Fasano@ustr.eop.gov.

SUPPLEMENTARY INFORMATION: Pursuant to section 201 of the United States-Australia Free Trade Agreement Implementation Act (Pub. L. 108-286; 118 Stat. 919) (19 U.S.C. 3805 note), Presidential Proclamation No. 7857 of December 20, 2004, and subchapter XXII of chapter 98 of the HTSUS, Annex 1 provides the aggregate quantities in CY2023 of originating goods of Australia entering the United States under certain subheadings.

Presidential Proclamation 6969 of January 27, 1997 (62 FR 4415), authorizes the U.S. Trade Representative to exercise the authority provided to the President under section 604 of the Trade Act (19 U.S.C. 2483) to embody rectifications, technical or conforming changes, or similar modifications in the HTSUS. U.S. note 12 to subchapter XIII of chapter 99 of the HTSUS implements U.S. obligations under Annex 2B-US-General Note 14 of the United States-Australia Free Trade Agreement. Pursuant to the authority delegated to the U.S. Trade Representative under Proclamation 6969, Annex 2 makes technical modifications to U.S. note 12 to subchapter XIII of chapter 99 of the HTSUS to indicate the correct aggregate amounts for 2021 and 2022.

Annex 1

Effective with respect to originating goods of Australia, entered under the terms of general note 28 to the HTSUS and as provided in subchapter XXII of chapter 98 of the HTSUS, on or after January 1, 2023, and through the close of December 31, 2023:

1. For purposes of subdivision (a) of U.S. note 8 to subchapter XXII of chapter 98 of the HTSUS and in accordance with paragraph 4(b) of Section C of Annex 3-A to Chapter 3 of the United States-Australia Free Trade Agreement (Price-Based Safeguard for Beef), the aggregate quantity of originating goods of Australia is 70,420 metric tons for CY2023.

2. For purposes of U.S. note 9 to subchapter XXII of chapter 98 of the HTSUS, the aggregate quantity of originating goods of Australia entered under subheading 9822.04.05 shall not exceed 21,408,000 liters for CY2023.

3. For purposes of U.S. note 10 to subchapter XXII of chapter 98 of the HTSUS, the aggregate quantity of originating goods of Australia entered under subheading 9822.04.10 shall not exceed 2,554 metric tons for CY2023.

4. For purposes of U.S. note 11 to subchapter XXII of chapter 98 of the HTSUS, the aggregate quantity of originating goods of Australia entered under subheading 9822.04.15 shall not exceed 170 metric tons for CY2023.

5. For purposes of U.S. note 12 to subchapter XXII of chapter 98 of the HTSUS, the aggregate quantity of originating goods of Australia entered under subheading 9822.04.20 shall not exceed 8,103 metric tons for CY2023.

6. For purposes of U.S. note 13 to subchapter XXII of chapter 98 of the HTSUS, the aggregate quantity of originating goods of Australia entered under subheading 9822.04.25 shall not exceed 4,282 metric tons for CY2023.

7. For purposes of U.S. note 14 to subchapter XXII of chapter 98 of the HTSUS, the aggregate quantity of originating goods of Australia entered under subheading 9822.04.30 shall not exceed 8,563 metric tons for CY2023.

8. For purposes of U.S. note 15 to subchapter XXII of chapter 98 of the HTSUS, the aggregate quantity of originating goods of Australia entered under subheading 9822.04.35 shall not exceed 8,423 metric tons for CY2023.

9. For purposes of U.S. note 16 to subchapter XXII of chapter 98 of the HTSUS, the aggregate quantity of originating goods of Australia entered under subheading 9822.04.40 shall not exceed 4,814 metric tons for CY2023.

10. For purposes of U.S. note 17 to subchapter XXII of chapter 98 of the HTSUS, the aggregate quantity of originating goods of Australia entered under subheading 9822.04.45 shall not exceed 1,277 metric tons for CY2023.

11. For purposes of U.S. note 18 to subchapter XXII of chapter 98 of the HTSUS, the aggregate quantity of originating goods of Australia entered under subheading 9822.04.50 shall not exceed 851 metric tons for CY2023.

12. For purposes of U.S. note 19 to subchapter XXII of chapter 98 of the HTSUS, the aggregate quantity of originating goods of Australia entered under subheading 9822.04.65 shall not exceed 1,203 metric tons for CY2023.

Annex 2

1. The aggregate quantity in U.S. note 12 to subchapter XIII of chapter 99 of the HTSUS for CY2021 is modified by deleting “1,264” and by inserting “1,204” in lieu thereof.

2. The aggregate quantity in U.S. note 12 to subchapter XIII of chapter 99 of the HTSUS for CY2022 is modified by deleting “1,302” and by inserting “1,240” in lieu thereof.

Julie Callahan,
Assistant U.S. Trade Representative for Agricultural Affairs and Commodity Policy, Office of the United States Trade Representative.

[FR Doc. 2022-28512 Filed 12-30-22; 8:45 am]

BILLING CODE 3390-F3-P